DEPARTMENT OF DEFENSE

Department of the Army; Corps of Engineers

Intent to Prepare an Environmental Impact Statement for the San Francisco Bay to Stockton (John F. Baldwin and Stockton Ship Channels) Navigation Improvement Project, California

AGENCY: Department of the Army, U.S. Army Corps of Engineers, DoD.

ACTION: Notice of intent.

SUMMARY: In accordance with the National Environmental Policy Act (NEPA), the U.S. Army Corps of Engineers (Corps), San Francisco District, the Port of Stockton, and the Contra Costa County Water Agency are preparing an Environmental Impact Statement/Environmental Impact Report (EIS/EIR) to evaluate the efficiency of the movement of goods along the existing deep draft navigation route extending from the San Francisco Bay to the Port of Stockton. The proposed action consists of altering the depth of the deep draft navigation route. The authority for the San Francisco Bay to Stockton Navigation Improvement Project was provided under House Document 208, House Report 89-973 cited in Section 301 of the Rivers and Harbors Act of 1965, Pub. L. 89-298, § 204, 79 Stat. 1073. This is a notice of intent to prepare an EIS/EIR, and to consider all reasonable alternatives, evaluate potential impacts of the proposed action, and identify appropriate mitigation measures.

DATES: Two public scoping meetings will be held on the proposed action. The first public scoping meeting will be held in Martinez on March 26, 2008, from 5 p.m. to 7 p.m. The second public scoping meeting will be held in Stockton on April 2, 2008, from 5 p.m. to 7 p.m. The public comment period begins on March 12, 2008. Written comments from all interested parties must be received by April 30, 2008.

ADDRESSES: The Martinez scoping meeting will be held at the Contra Costa County Administration Building, Room 101, 651 Pine Street, Martinez, CA 94553. The Stockton scoping meeting will be held at the Cesar Chavez Central Library, Stewart-Hazelton Room, 605 N. El Dorado Street, Stockton, CA 94553.

FOR FURTHER INFORMATION CONTACT: Questions and comments regarding the proposed action can be addressed to: Ms. Nancy Ferris, U.S. Army Corps of Engineers, San Francisco District, 1455 Market Street, San Francisco, CA 94103-1398, telephone: (415) 503-6865, or SPNETPA@usace.army.mil. All written comments can also be faxed to (415) 503-6692 or sent electronically to SPNETPA@usace.army.mil.

SUPPLEMENTARY INFORMATION: The following section will address the study area, and some of the alternatives that will be addressed in this study.

1. Background: The San Francisco Bay to Stockton Improvement Project includes the John F. Baldwin and Stockton Ship Channels, which extend 75 nautical miles from the Pacific Ocean, just outside the Golden Gate, to the Port of Stockton. The project is divided into two separate reaches, with the John F. Baldwin Ship Channel extending from the Golden Gate to Chipps Island, and the Stockton Ship Channel extending from Chipps Island to the Port of Stockton. Portions of the reaches have been deepened in the past; however, not all reaches attained authorized dimensions. Currently, the Corps is reevaluating the authorized Federal project to determine the extent to which changes to channel dimensions are warranted.

2. Proposed action: Based on the need for improved efficiency of the movement of goods, the proposed action is to alter the depth of the John F. Baldwin and Stockton Ship Channels.

3. Project Alternatives: The following are some of the alternatives that will be evaluated in the EIS/EIR:

(a) No action. The efficiency of maintaining the current depths of the John F. Baldwin and Stockton Ship Channels will be evaluated.

(b) Modify the shipping channels to authorized depths. Following the original plans of the authorized project, the channels will be modified to the authorized project depths. Alternative placement sites for dredged material, including beneficial reuse, will be evaluated.

(c) Modify the shipping channels to alternate depths. All or portions of the John F. Baldwin and Stockton Ship Channels will be evaluated for depths differing from current or authorized depths. This will be accomplished in consideration of economic and environmental impacts of the proposed project.

(d) Alternative transport methods. Alternative methods for the transport of goods such as truck or rail transport will be evaluated.

4. Environmental Considerations: In all cases, pursuant to NEPA guidelines, environmental considerations will include human health, biological resources, geophysical impacts, air quality, water quality, salinity, hazards, noise, utilities and service systems, transportation, land use and planning, historic and cultural resources, aesthetics, recreation, social and economic effects, as well as other potential environmental issues of concern.

5. Scoping Process: The Corps is seeking participation and input of all interested Federal, State, and local agencies, Native American groups, and other concerned private organizations or individuals through this public notice. Public scoping meetings will be held in Martinez, CA and Stockton, CA (see DATES). Any changes to the date, time, or location will be published in the newspaper or provided by mail to those requesting information. The purpose of the meeting is to solicit comments regarding the potential impacts, environmental issues, and alternatives associated with the proposed action. Public participation will help to define the scope of the environmental analysis in the EIS/EIR; identify other significant issues; provide other relevant information; and recommend mitigation measures. The public comment period starts on March 12, 2008, and closes on April 30, 2008. All comments received will be considered in the preparation of the EIS/EIR.

6. Availability of EIS: The public will have an additional opportunity to comment on project alternatives once the draft EIS/EIR is released. The Corps will announce availability of the draft EIS/EIR in the Federal Register and other media, and will provide a 45-day public review period for the public, organizations, and agencies to review and comment on the EIS/EIR. All submitted comments will be addressed in the Final EIS/EIR. All interested parties should respond to this notice and provide a current address if they wish to be notified of the EIS/EIR circulation.

Mike A. Dillabough,
Chief, Operations and Readiness Division.

[FR Doc. E8-5133 Filed 3-13-08; 8:45 am]

BILLING CODE 3710-19-P